DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2017 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the spring 2017 agenda. The purpose of the agenda is to provide information to the public on regulations that are currently under review, being proposed, or issued by Commerce. The agenda is intended to facilitate comments and views by interested members of the public.

Commerce's fall 2017 regulatory agenda includes regulatory activities that are expected to be conducted during the period November 1, 2017, through October 31, 2018.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation, Regulation, and Oversight, U.S. Department of Commerce, Washington, DC 20230, telephone: 202-482-3151.

SUPPLEMENTARY INFORMATION: Commerce hereby publishes its fall 2017 Unified Agenda of Federal Regulatory and Deregulatory Actions pursuant to Executive Order 12866 and the Regulatory Flexibility Act, 5 U.S.C. 601 et seq. Executive Order 12866 requires agencies to publish an agenda of those regulations that are under consideration pursuant to this order. By memorandum of August 18, 2017, the Office of Management and Budget issued guidelines and procedures for the preparation and publication of the fall 2017 Unified Agenda. The Regulatory Flexibility Act requires agencies to publish, in the spring and fall of each year, a regulatory flexibility agenda that contains a brief description of the subject of any rule likely to have a significant economic impact on a substantial number of small entities.

In this edition of Commerce's regulatory agenda, a list of the most important significant regulatory and deregulatory actions and a Statement of Regulatory Priorities are included in the Regulatory Plan, which appears in both the online Unified Agenda and in part II of the issue of the Federal Register that includes the Unified Agenda.

In addition, beginning with the fall 2007 edition, the internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet. In addition, for fall editions of the Agenda, Commerce's entire Regulatory Plan will continue to be printed in the Federal Register.

Within Commerce, the Office of the Secretary and various operating units may issue regulations. Among these operating units, the National Oceanic and Atmospheric Administration (NOAA), the Bureau of Industry and Security, and the Patent and Trademark Office, issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare Fishery Management Plans (FMPs) for the fisheries within their respective areas. Regulations implementing these FMPs regulate domestic fishing and foreign fishing where permitted. Foreign fishing may be conducted in a fishery in which there is no FMP only if a preliminary fishery management plan has been issued to govern that foreign fishing. In the development of FMPs, or amendments to FMPs, and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's fall 2017 regulatory agenda follows.

Peter B. Davidson,
General Counsel.

International Trade Administration—Proposed Rule Stage
Sequence No. | Title | Regulation Identifier No.
158 | Covered Merchandise Referrals From the Customs Service | 0625-AB10

National Oceanic and Atmospheric Administration—Proposed Rule Stage
Sequence No. | Title | Regulation Identifier No.
159 | Comprehensive Fishery Management Plan for Puerto Rico | 0648-BD32
160 | Comprehensive Fishery Management Plan for St. Croix | 0648-BD33
161 | Comprehensive Fishery Management Plan for St. Thomas/St. John | 0648-BD34
162 | International Fisheries; Western and Central Pacific Fisheries for Highly Migratory Species; Treatment of U.S. Purse Seine Fishing With Respect to U.S. Territories | 0648-BF41
163 | Omnibus Essential Fish Habitat Amendment 2 | 0648-BF82
164 | Framework Adjustment 2 to the Tilefish Fishery Management Plan | 0648-BF85
165 | International Fisheries; South Pacific Tuna Fisheries; Implementation of Amendments to the South Pacific Tuna Treaty | 0648-BG04
166 | Voting Criteria for a Referendum on a Gulf of Mexico Reef Fish Catch Share Program for For-Hire Vessels With Landings Histories | 0648-BG36
167 | Fisheries off West Coast States; Pacific Coast Groundfish Fishery; Authorization of an Oregon Recreational Fishery for Midwater Groundfish Species | 0648-BG40
168 | Commerce Trusted Trader Program (Reg Plan Seq No. 12) | 0648-BG51
169 | International Fisheries; Fishing Limits in Purse Seine Fisheries for 2017, Transshipment Prohibition, and Requirements to Safeguard Fishery Observers | 0648-BG66
170 | Rule to Implement the For-Hire Reporting Amendments | 0648-BG75
171 | Amendment 41 to the Fishery Management Plan for the Snapper-Grouper Fishery of the South Atlantic Region | 0648-BG77
172 | Amendment 36A to the Fishery Management Plan for the Reef Fish Resources of the Gulf of Mexico | 0648-BG83
173 | Rule to Modify the Number of Unrigged Hooks Carried Onboard Bottom Longline Vessels in the Gulf of Mexico | 0648-BG92
174 | Allow Halibut Individual Fishing Quota Leasing to Community Development Quota Groups | 0648-BG94
175 | Nontrawl Lead Level 2 Observers | 0648-BG96
176 | Rule to Modify Mutton Snapper and Gag Management Measures in the Gulf of Mexico | 0648-BG99
177 | Amendment 116 to the Fishery Management Plan for Groundfish of the Bering Sea and Aleutian Islands Management Area | 0648-BH02
178 | Amendment 47 to the Fishery Management Plan for Reef Fish Resources of the Gulf of Mexico | 0648-BH07
179 | Management Measures for Tropical Tunas in the Eastern Pacific Ocean | 0648-BH13
180 | Rule to Modify Greater Amberjack Allowable Harvest and Rebuilding Plan in the Gulf of Mexico | 0648-BH14
181 | Atlantic Highly Migratory Species; Individual Bluefin Quota Program; Quarterly Accountability | 0648-BH17
182 | Designate Critical Habitat for the Hawaiian Insular False Killer Whale Distinct Population Segment | 0648-BC45
183 | Amendment and Updates to the Pelagic Longline Take Reduction Plan | 0648-BF90
184 | Endangered and Threatened Species; Designation of Critical Habitat for Threatened Caribbean and Indo-Pacific Reef-Building Corals (Reg Plan Seq No. 11) | 0648-BG26
185 | Regulatory Amendment to Authorize a Recreational Quota Entity | 0648-BG57
References in boldface appear in The Regulatory Plan in part II of this issue of the Federal Register.

National Oceanic and Atmospheric Administration—Final Rule Stage
Sequence No. | Title | Regulation Identifier No.
186 | Modification of the Temperature-Dependent Component of the Pacific Sardine Harvest Guideline Control Rule to Incorporate New Scientific Information | 0648-BE77
187 | Pacific Coast Groundfish Fishing Capacity Reduction Loan Refinance | 0648-BE90
188 | Pacific Coast Groundfish Trawl Rationalization Program; Widow Rockfish Reallocation in the Individual Fishing Quota Fishery | 0648-BF12
189 | Regulatory Amendment to the Pacific Coast Groundfish Fishery Management Plan to Implement an Electronic Monitoring Program for the Pacific Whiting Fishery | 0648-BF52
190 | Blueline Tilefish Amendment to the Golden Tilefish Fishery Management Plan | 0648-BF86
191 | Magnuson-Stevens Act Provisions; Fisheries off West Coast States; Pacific Coast Groundfish Fishery; Specifications and Management Measures and Fishery Management Plan Amendment 27 | 0648-BG17
192 | Amendment 46 to the Fishery Management Plan for Reef Fish Resources of the Gulf of Mexico to Establish a Gray Triggerfish Rebuilding Plan | 0648-BG87
193 | International Fisheries; Western and Central Pacific Fisheries for Highly Migratory Species; Fishing Limits in Purse Seine Fisheries for 2017 | 0648-BG93
194 | Regulation to Reduce Incidental Bycatch and Mortality of Sea Turtles in the Southeastern U.S. Shrimp Fisheries | 0648-BG45
195 | Wisconsin-Lake Michigan National Marine Sanctuary Designation | 0648-BG01
196 | Mallows Bay-Potomac River National Marine Sanctuary Designation | 0648-BG02

National Oceanic and Atmospheric Administration—Long-Term Actions
Sequence No. | Title | Regulation Identifier No.
197 | Amendment 39 to the Fishery Management Plan for the Reef Fish Resources of the Gulf of Mexico | 0648-BD25
198 | Implementation of a Program for Transshipments by Large Scale Fishing Vessels in the Eastern Pacific Ocean | 0648-BD59
199 | Reducing Disturbances to Hawaiian Spinner Dolphins From Human Interactions | 0648-AU02
200 | Designation of Critical Habitat for the Arctic Ringed Seal | 0648-BC56

National Oceanic and Atmospheric Administration—Completed Actions
Sequence No. | Title | Regulation Identifier No.
201 | Amendment 18 to the Northeast Multispecies Fishery Management Plan | 0648-BF26
202 | Amendment 26 to the Fishery Management Plan for Coastal Migratory Pelagic Resources of the Gulf of Mexico and South Atlantic | 0648-BG03
203 | Amendment 43 to the Fishery Management Plan for the Reef Fish Resources of the Gulf of Mexico | 0648-BG18
204 | Protected Species Hard Caps for the California/Oregon Large-Mesh Drift Gillnet Fishery | 0648-BG23
205 | Amendment 37 to the Fishery Management Plan for the Snapper-Grouper Fishery of the South Atlantic Region | 0648-BG33
206 | Unmanaged Forage Fish Omnibus Amendment | 0648-BG42
207 | Pacific Coast Groundfish; Establish an Interim 2017 Pacific Coast Tribal Pacific Whiting Allocation | 0648-BG47
208 | Fishing Year 2017 Recreational Fishing Measures for Gulf of Maine Cod and Haddock | 0648-BG52
209 | Framework Adjustment 56 to the Northeast Multispecies Fishery Management Plan | 0648-BG53
210 | Amendment 114 for Groundfish of the Bering Sea/Aleutian Islands Management Area and Amendment 104 for Groundfish of the Gulf of Alaska; Electronic Monitoring | 0648-BG54
211 | Revisions to the Pacific Halibut Catch Sharing Plan, Codified Regulations, and Annual Management Measures for 2017 and Beyond | 0648-BG61
212 | International Fisheries; Pacific Tuna Fisheries; Fishing Restriction on Tropical Tuna in the Eastern Pacific Ocean | 0648-BG67
213 | 2017 Summer Flounder and Scup Recreational Harvest Measures | 0648-BG68
214 | Designation of Critical Habitat for the Gulf of Maine, New York Bight, Chesapeake Bay, Carolina, and South Atlantic Distinct Population Segments of Atlantic Sturgeon | 0648-BF28

Patent and Trademark Office—Final Rule Stage
Sequence No. | Title | Regulation Identifier No.
215 | Setting and Adjusting Patent Fees During Fiscal Year 2017 | 0651-AD02

DEPARTMENT OF COMMERCE (DOC)

International Trade Administration (ITA)

Proposed Rule Stage

158. Covered Merchandise Referrals From the Customs Service

E.O. 13771 Designation: Other.

Legal Authority: Pub. L. 114-125, sec. 421

Abstract: The Department of Commerce (the Department) is proposing to amend its regulations to set forth procedures to address covered merchandise referrals from U.S. Customs and Border Protection (CBP or the Customs Service).

Timetable:

Action | Date | FR Cite
NPRM | 11/00/17 |

Regulatory Flexibility Analysis Required: Yes.

Agency Contact: Emily Beline, Department of Commerce, International Trade Administration, 1401 Constitution Avenue NW, Washington, DC 20230, Phone: 202 482-1096, Email: emily.beline@trade.gov.

RIN: 0625-AB10

DEPARTMENT OF COMMERCE (DOC)

National Oceanic and Atmospheric Administration (NOAA)

Proposed Rule Stage

National Marine Fisheries Service

159. Comprehensive Fishery Management Plan for Puerto Rico

E.O. 13771 Designation: Not subject to, not significant.

Legal Authority: 16 U.S.C. 1801 et seq.

Abstract: This rule would implement a comprehensive Puerto Rico Fishery Management Plan. The Plan will incorporate, and modify as needed, Federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. If approved, this new Puerto Rico Fishery Management Plan, in conjunction with similar comprehensive Fishery Management Plans being developed for St. Croix and St. Thomas/St. John, will replace the Spiny Lobster, Reef Fish, Coral and Queen Conch Fishery Management Plans presently governing the commercial and recreational harvest in U.S. Caribbean exclusive economic zone waters.

Timetable:

Action | Date | FR Cite
NPRM | 09/00/18 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD32

160. Comprehensive Fishery Management Plan for St. Croix

E.O. 13771 Designation: Not subject to, not significant

Legal Authority: 16 U.S.C. 1801 et seq.

Abstract: This rule would implement a comprehensive St. Croix Fishery Management Plan. The Plan would incorporate, and modify as needed, Federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. If approved, this new St. Croix Fishery Management Plan, in conjunction with similar comprehensive Fishery Management Plans being developed for Puerto Rico and St. Thomas/St. John, will replace the Spiny Lobster, Reef Fish, Coral and Queen Conch Fishery Management Plans presently governing the commercial and recreational harvest in U.S. Caribbean exclusive economic zone waters.

Timetable:

Action | Date | FR Cite
NPRM | 09/00/18

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD33

161. Comprehensive Fishery Management Plan for St. Thomas/St. John

E.O. 13771 Designation: Not subject to, not significant.

Legal Authority: 16 U.S.C. 1801 et seq.

Abstract: This rule would implement a comprehensive St. Thomas/St. John Fishery Management Plan. The Plan would incorporate, and modify as needed, Federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. If approved, this new St. Thomas/St. John Fishery Management Plan, in conjunction with similar comprehensive Fishery Management Plans being developed for St. Croix and Puerto Rico, will replace the Spiny Lobster, Reef Fish, Coral and Queen Conch Fishery Management Plans presently governing the commercial and recreational harvest in U.S. Caribbean exclusive economic zone waters.

Timetable:

Action | Date | FR Cite
NPRM | 09/00/18

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD34

162. International Fisheries; Western and Central Pacific Fisheries for Highly Migratory Species; Treatment of U.S. Purse Seine Fishing With Respect to U.S. Territories

E.O. 13771 Designation: Deregulatory.

Legal Authority: 16 U.S.C. 6901 et seq.

Abstract: This action would establish rules and/or procedures to address the treatment of U.S.-flagged purse seine vessels and their fishing activities in regulations issued by the National Marine Fisheries Service that implement decisions of the Commission for the Conservation and Management of Highly Migratory Fish Stocks in the Western and Central Pacific Ocean (Commission), of which the United States is a member. Under the Western and Central Pacific Fisheries Convention Implementation Act, the National Marine Fisheries Service exercises broad discretion when determining how it implements Commission decisions, such as purse seine fishing restrictions. The National Marine Fisheries Service intends to examine the potential impacts of the domestic implementation of Commission decisions, such as purse seine fishing restrictions, on the economies of the U.S. territories that participate in the Commission, and examine the connectivity between the activities of U.S.-flagged purse seine fishing vessels and the economies of the territories. Based on that and other information, the National Marine Fisheries Service might propose regulations that mitigate adverse economic impacts of purse seine fishing restrictions on the U.S. territories and/or that, in the context of the Convention on the Conservation and Management of Highly Migratory Fish Stocks in the Western and Central Pacific Ocean (Convention), recognize that one or more of the U.S. territories have their own purse seine fisheries that are distinct from the purse seine fishery of the United States and that are consequently subject to special provisions of the Convention and of Commission decisions.

Timetable:

Action | Date | FR Cite
ANPRM | 10/23/15 | 80 FR 64382
ANPRM Comment Period End | 11/23/15 |
NPRM | 05/00/18

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BF41

163. Omnibus Essential Fish Habitat Amendment 2

E.O. 13771 Designation: Other.

Legal Authority: 16 U.S.C. 1801 et seq.

Abstract: The New England Fishery Management Council voted to issue this updated rulemaking that would revise the essential fish habitat and habitat areas of particular concern designation based on recent groundfish data. This rule would update groundfish seasonal spawning closures and identify Habitat Research Areas. The proposed revisions include adding a habitat management area in the eastern Gulf of Maine and modifying the existing habitat management areas in the central and western Gulf of Maine, while maintaining additional protections for large-mesh groundfish, including cod. In addition, the amendment would allow for the potential for development of a scallop access area within Georges Bank. A habitat management area would be established on Georges Shoal, with allowances for the clam dredge fishery. In Southern New England, a habitat management area in the Great South Channel would replace the current habitat protections further west. These revisions are intended to comply with the Magnuson-Stevens Act requirement to minimize to the extent practicable the adverse effects of fishing on essential fish habitat.

Timetable:

Action | Date | FR Cite
NPRM | 11/00/17

Regulatory Flexibility Analysis Required: Yes

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF82

164. Framework Adjustment 2 to the Tilefish Fishery Management Plan

E.O. 13771 Designation: Not subject to, not significant.

Legal Authority: 16 U.S.C. 1801 et seq.

Abstract: The Mid-Atlantic Fishery Management Council has developed a framework adjustment to its Tilefish Fishery Management Plan, which would modify management measures for the tilefish fishery to improve the management of the species. The proposed measures would: eliminate the current call-in reporting requirement; prohibit a vessel from fishing for more than one Individual Fishing Quota allocation at the same time; require tilefish to be landed with the head attached; clarify what fishing gears are allowed in the recreational fishery; and make an administrative change to how assumed discards are accounted for in the specifications setting process.

Timetable:

Action | Date | FR Cite
NPRM | 11/00/17 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF85

165. International Fisheries; South Pacific Tuna Fisheries; Implementation of Amendments to the South Pacific Tuna Treaty

E.O. 13771 Designation: Not subject to, not significant.

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean.

Timetable:

Action | Date | FR Cite
NPRM | 05/00/18 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG04

166. Voting Criteria for a Referendum on a Gulf of Mexico Reef Fish Catch Share Program for For-Hire Vessels With Landings Histories

E.O. 13771 Designation: Not subject to, not significant.

Legal Authority: 16 U.S.C. 1801 et seq.

Abstract: Amendment 42 to the Fishery Management Plan for Reef Fish Resources in the Gulf of Mexico (Amendment 42) proposes to establish a catch share program for up to five species of reef fish for headboats with landings history in the Southeast Region Headboat Survey. This rule would inform the public of the procedures, schedule, and eligibility requirements that NOAA Fisheries would use in conducting the referendum that is required before the Gulf of Mexico Fishery Management Council (Council) can submit Amendment 42 for Secretarial review.

Timetable:

Action | Date | FR Cite
NPRM | 02/00/18 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG36

167. Fisheries Off West Coast States; Pacific Coast Groundfish Fishery; Authorization of an Oregon Recreational Fishery for Midwater Groundfish Species

E.O. 13771 Designation: Deregulatory.

Legal Authority: 16 U.S.C. 1801 et seq.

Abstract: This rule would authorize the use of midwater long-leader gear for recreational fishing in waters seaward of a line approximating 40 fathoms (73 m) off the coast of Oregon. Midwater long-leader gear would be allowed for both charter and private vessels seaward of the 40 fathom seasonal depth closure and monitored with the existing Oregon Ocean Recreational Boat Sampling program. The season would be limited and occur between the months of April and September, months currently subject to depth restrictions.

Timetable:

Action | Date | FR Cite
NPRM | 11/00/17 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BG40

168. Commerce Trusted Trader Program

Regulatory Plan: This entry is Seq. No. 12 in part II of this issue of the Federal Register.

RIN: 0648-BG51

169. International Fisheries; Fishing Limits in Purse Seine Fisheries for 2017, Transshipment Prohibition, and Requirements To Safeguard Fishery Observers

E.O. 13771 Designation: Not subject to, not significant.

Legal Authority: 16 U.S.C. 6901 et seq.

Abstract: This rule would establish a limit on fishing effort by U.S. purse seine fishing vessels in 2017; prohibit U.S. vessels used to fish for highly migratory species from transshipping catch in a particular area of high seas and remove certain reporting requirements applicable to such vessels in that area; and establish requirements to enhance the safety of fishery observers on highly migratory species fishing vessels. This rule would be issued under the authority of the Western and Central Pacific Fisheries Convention Implementation Act, and pursuant to decisions made by the Commission for the Conservation and Management of Highly Migratory Fish Stocks in the Western and Central Pacific Ocean. This action is necessary for the United States to satisfy its obligations under the Convention on the Conservation and Management of Highly Migratory Fish Stocks in the Western and Central Pacific Ocean, to which it is a Contracting Party.

Timetable:

Action | Date | FR Cite
NPRM | 01/00/18 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG66

170. Rule To Implement the For-Hire Reporting Amendments

E.O. 13771 Designation: Not subject to, not significant.

Legal Authority: 16 U.S.C. 1801 et seq.

Abstract: This rule proposes to implement Amendment 39 for the Snapper-Grouper Fishery of the South Atlantic Region, Amendment 9 for the Dolphin and Wahoo Fishery of the Atlantic, and Amendment 27 to the Coastal Migratory Pelagics Fishery of the Gulf of Mexico and Atlantic Regions (For-Hire Reporting Amendments). The For-Hire Reporting Amendments rule proposes mandatory weekly electronic reporting for charter vessel operators with a Federal for-hire permit in the snapper-grouper, dolphin wahoo, or coastal migratory pelagics fisheries; reduces the time allowed for headboat operators to complete their electronic reports; and requires location reporting by charter vessels with the same level of detail currently required for headboat vessels.

Timetable:

Action | Date | FR Cite
NPRM | 05/00/18 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG75

171. Amendment 41 to the Fishery Management Plan for the Snapper-Grouper Fishery of the South Atlantic Region

E.O. 13771 Designation: Not subject to, not significant.

Legal Authority: 16 U.S.C. 1801 et seq.

Abstract: NMFS proposes regulations to implement Amendment 41. This amendment would update biological benchmarks, modify allowable fishing levels, and revise management measures for mutton snapper based on the latest stock assessment. Revisions to management measures include designation of “spawning months,” during which stricter regulations may apply, as well as modifications to the minimum size limit, recreational bag limit, and commercial trip limit.

Timetable:

Action | Date | FR Cite
Notice of Availability | 09/26/17 | 82 FR 44756
NPRM | 11/00/17 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG77

172. • Amendment 36A to the Fishery Management Plan for the Reef Fish Resources of the Gulf of Mexico

E.O. 13771 Designation: Not subject to, not significant.

Legal Authority: 16 U.S.C. 1801 et seq.

Abstract: This action implements Amendment 36A to the Fishery Management Plan for reef fish resources in the Gulf of Mexico by considering modifications to improve compliance and increase management flexibility in the red snapper and grouper-tilefish commercial individual fishing quota programs in the Gulf of Mexico. In accordance with Amendment 36A, this action proposes to improve compliance with the individual fishing quota program by requiring all commercial reef fish permit holders to hail-in at least 3 hours, but no more than 24 hours, in advance of landing. It also proposes to address non-activated individual fishing quota accounts and provide the regional administrator with authority to retain annual allocation if a quota reduction is expected to occur.

Timetable:

Action | Date | FR Cite
NPRM | 11/00/17 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG83

173. • Rule To Modify the Number of Unrigged Hooks Carried Onboard Bottom Longline Vessels in the Gulf of Mexico

E.O. 13771 Designation: Deregulatory.

Legal Authority: 16 U.S.C. 1801 et seq.

Abstract: This rule would modify the number of hooks a bottom longline vessel could carry on board in the Gulf of Mexico. Amendment 31 to the Fishery Management Plan for Reef Fish Resources in the Gulf of Mexico, originally implemented in February 2010, limited the number of hooks a bottom longline vessel could carry to 1,000 hooks of which no more than 750 could be fished or rigged to fish at any one time. Industry representatives have indicated that hook loss due to shark bites has increased over time observer data has also shown an increase in the number of hooks lost per trip since 2010. As recommended recently by the Gulf of Mexico Fishery Management Council, this rule would remove the cap on the number of hooks per vessel while retaining the limit of 750 hooks that could be fished or rigged to fish.

Timetable:

Action | Date | FR Cite
NPRM | 11/00/17 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG92

174. • Allow Halibut Individual Fishing Quota Leasing to Community Development Quota Groups

E.O. 13771 Designation: Deregulatory.

Legal Authority: 16 U.S.C. 1861 et seq.; 16 U.S.C. 773 et seq.

Abstract: This action would allow Western Alaska Community Development Quota groups to lease halibut individual fishing quota in the Bering Sea and Aleutian Islands in years of low halibut catch limits. The Community Development Quota Program is an economic development program that provides eligible western Alaska villages with the opportunity to participate and invest in fisheries. The Community Development Quota Program receives annual allocations of total allowable catches for a variety of commercially valuable species. In recent years, low halibut catch limits have hindered most Community Development Quota groups' ability to create a viable halibut fishing opportunity for their residents. This proposed rule would authorize Community Development Quota groups to obtain additional halibut quota from commercial fishery participants to provide Community Development Quota community residents more fishing opportunities in years when the halibut Community Development Quota allocation may not be large enough to present a viable fishery for participants. This proposed rule is intended to alleviate the adverse economic, social, and cultural impacts of decreasing available halibut resource on Western Alaskan communities.

Timetable:

Action | Date | FR Cite
NPRM | 12/00/17 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG94

175. • Nontrawl Lead Level 2 Observers

E.O. 13771 Designation: Not subject to, not significant.

Legal Authority: 16 U.S.C. 1801 et seq.

Abstract: This action would modify regulations pertaining to the nontrawl lead level 2 observer deployment endorsement and require vessels to participate in a pre-cruise meeting when necessary. An observer deployed on a catcher/processor that participates in the Bering Sea and Aleutian Islands hook-and-line Pacific cod fishery or on a catcher/processor using pot gear to harvest groundfish in the Western Alaska Community Development Quota fisheries is required to have a nontrawl lead level 2 deployment endorsement. Since 2014, vessel owners and observer provider firms have reported an ongoing shortage of nontrawl lead level 2 endorsed observers that has delayed fishing trips and increased operational costs. This action would increase the pool of observers that could obtain the nontrawl lead level 2 endorsement by allowing sampling experience on trawl catcher/processors to count toward the minimum experience necessary to obtain a nontrawl lead level 2 deployment endorsement. The action would benefit the owners and operators of catcher/processor vessels required to carry an observer with a nontrawl lead level 2 endorsement, observer provider firms, and individuals serving as certified observers. This action also includes a revision to the observer coverage requirement for motherships receiving unsorted codends from catcher vessels groundfish Community Development Quota fishing and numerous housekeeping measures and technical corrections. These additional updates and corrections are necessary to improve terminology consistency throughout the regulations and, for operational consistency, to align mothership observer coverage requirements with Amendment 80 vessels consistent with the regulation of harvest provisions of the Magnuson-Stevens Act.

Timetable:

Action | Date | FR Cite
NPRM | 11/00/17 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG96

176. • Rule To Modify Mutton Snapper and Gag Management Measures in the Gulf of Mexico

E.O. 13771 Designation: Not subject to, not significant.

Legal Authority: 16 U.S.C. 1801 et seq.

Abstract: This rule would establish annual catch limits from 2017 through 2020 for the Gulf of Mexico apportionment of mutton snapper and remove the annual catch target because this target is not currently used for management purposes. This rule would also establish a recreational bag limit for mutton snapper, modify the minimum size limit for commercial and recreational mutton snapper, and modify the commercial minimum size limit for gag. The majority of mutton snapper and gag landings are from waters adjacent to Florida, and the changes in bag and size limits would make these management measures consistent with those established for Florida state waters and in the case of gag, with South Atlantic Federal regulations.

Timetable:

Action | Date | FR Cite
NPRM | 11/00/17 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG99

177. • Amendment 116 to the Fishery Management Plan for Groundfish of the Bering Sea and Aleutian Islands Management Area

E.O. 13771 Designation: Not subject to, not significant.

Legal Authority: 16 U.S.C. 1801 et seq.

Abstract: This action would further limit access to the Bering Sea and Aleutian Islands yellowfin sole Trawl Limited Access fishery by catcher vessels delivering to offshore motherships or catcher/processors. In recent years, an unexpected increase in participation in the offshore sector of this fishery by catcher vessels allowed under current regulations has resulted in an increased yellowfin sole catch rate and a shorter fishing season. The North Pacific Fishery Management Council recently determined that limiting the number of eligible licenses assigned to catcher vessels in this fishery could stabilize the fishing season duration, provide better opportunity to increase production efficiency, and help reduce bycatch of Pacific halibut. This action would modify the License Limitation Program by establishing eligibility criteria for licenses assigned to catcher vessels to participate in this fishery based on historic participation.

Timetable:

Action | Date | FR Cite
NPRM | 11/00/17 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BH02

178. • Amendment 47 to the Fishery Management Plan for Reef Fish Resources of the Gulf of Mexico

E.O. 13771 Designation: Not subject to, not significant.

Legal Authority: 16 U.S.C. 1801 et seq.

Abstract: This action would revise the maximum sustainable yield proxy and adjust the annual catch limit for the vermilion snapper stock within the Fishery Management Plan for Reef Fish Resources of the Gulf of Mexico. The Gulf of Mexico Fishery Management Council (Council) approved this action at their June 2017 meeting in response to a 2016 stock assessment for vermilion snapper. The estimate of maximum sustainable yield is dependent upon the spawner-recruit relationship. For vermilion snapper, there is a high degree of variability in the data used and the Council's Scientific and Statistical Committee had little confidence in the resulting estimate of maximum sustainable yield. Instead, the SSC recommended the use of a maximum sustainable yield proxy. This action is necessary to establish: a maximum sustainable yield proxy and associated status determination criteria that are consistent with the best scientific information available, and an annual catch limit that does not exceed the acceptable biological catch yields from the 2016 stock.

Timetable:

Action | Date | FR Cite
NPRM | 11/00/17 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BH07

179. • Management Measures for Tropical Tunas in the Eastern Pacific Ocean

E.O. 13771 Designation: Not subject to, not significant.

Legal Authority: 16 U.S.C. 951 et seq.

Abstract: This proposed rule would implement the Inter-American Tropical Tuna Commission's Resolution C-17-02, which contains provisions intended to prevent the overfishing of tropical tuna (bigeye, yellowfin, and skipjack) in the eastern Pacific Ocean for fishing years 2018 to 2020. In addition to rolling over measures from the 2017 resolution, this resolution includes additional management measures related to fish aggregating devices, makes minor revisions to the definition of force majeure, includes provisions related to transferring longline catch limits for bigeye tuna between Inter-American Tropical Tuna Commission members, and increases the bigeye tuna catch limit U.S. longline vessels greater than 24 meters in overall length that fish in the Inter-American Tropical Tuna Commission Convention Area.

Timetable:

Action | Date | FR Cite
NPRM | 11/00/17 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH13

180. • Rule To Modify Greater Amberjack Allowable Harvest and Rebuilding Plan in the Gulf of Mexico

E.O. 13771 Designation: Not subject to, not significant.

Legal Authority: 16 U.S.C. 1801 et seq.

Abstract: This rule would adjust the Gulf of Mexico greater amberjack rebuilding plan, modify through 2020—based on information from the 2017 stock assessment that indicated that the stock is not making adequate progress towards rebuilding—greater amberjack annual catch limits and annual catch targets (which equal the quotas) for both the commercial and recreational fisheries. The modifications are projected to rebuild the stock by 2027. In addition, the rule would change the recreational seasonal closure from June through July each year to January 1 through June 30 each year. This change would protect the stock during peak spawning and extend the season later in the fishing year, leading to a more reliable open season.

Timetable:

Action | Date | FR Cite
NPRM | 11/00/17 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BH14

181. • Atlantic Highly Migratory Species; Individual Bluefin Quota Program; Quarterly Accountability

E.O. 13771 Designation: Deregulatory.

Legal Authority: 16 U.S.C. 1801 et seq.; 16 U.S.C. 971 et seq.

Abstract: This action would consider modifying the Atlantic highly migratory species regulations to require vessels in the pelagic longline fishery to account for bycatch of bluefin tuna using Individual Bluefin Quota on a quarterly basis instead of before commencing any fishing trip while in quota debt or with less than the minimum required Individual Bluefin Quota balance. Current regulations require permitted Atlantic Tunas Longline vessels to possess a minimum amount of Individual Bluefin Quota to depart on a fishing trip with pelagic longline gear onboard and account for bluefin tuna catch (fish retained or discarded dead) using Individual Bluefin Quota. At the end of a trip on which bluefin tuna are caught, a vessel's Individual Bluefin Quota balance is reduced by the amount caught. If the trip catch exceeds the vessel's available quota, the vessel will incur quota debt (i.e., exceeding its available Individual Bluefin Quota balance). In this case, the regulations currently require the vessel to obtain additional Individual Bluefin Quota through leasing to resolve that quota debt and to acquire the minimum Individual Bluefin Quota amount, before departing on a subsequent trip using pelagic longline gear. This action would implement accountability on a quarterly basis instead of after each trip to minimize constraints on fishing for target species and support business planning while accounting for all bluefin tuna catch and maintaining incentives to avoid bluefin catch. Quarterly accountability would require vessel owners to resolve quota debt and obtain the minimum amount of Individual Bluefin Tuna prior to fishing for the first time during each new calendar quarter. The annual U.S. Bluefin tuna quota would remain unaffected by this measure, as it results from International Commission for the Conservation of Atlantic Tunas recommendations. Through the proposed rule, NMFS would consider the potential impacts of this approach on the Individual Bluefin Tuna Program.

Timetable:

Action | Date | FR Cite
NPRM | 11/00/17 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BH17

182. Designate Critical Habitat for the Hawaiian Insular False Killer Whale Distinct Population Segment

E.O. 13771 Designation: Regulatory.

Legal Authority: 16 U.S.C. 1531 et seq.

Abstract: In 2012, NMFS listed as endangered the main Hawaiian Islands (MHI) insular false killer whale (Pseudorca crassidens) Distinct Population Segment (DPS). The Endangered Species Act (ESA) requires NMFS to designate critical habitat to support the conservation and recovery of newly listed species. Accordingly, this proposed rule would designate critical habitat for the MHI insular false killer whale DPS in waters around the MHI. NMFS will consider the economic, national security, or other relevant impacts of the proposed designation, and would consider excluding areas where such negative impacts would outweigh the benefits of critical habitat designation.

Timetable:

Action | Date | FR Cite
NPRM | 11/00/17 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC45

183. Amendment and Updates to the Pelagic Longline Take Reduction Plan

E.O. 13771 Designation: Not subject to, not significant.

Legal Authority: 16 U.S.C. 1361 et seq.

Abstract: Serious injury and mortality of the Western North Atlantic short-finned pilot whale stock incidental to the Category I Atlantic pelagic longline fishery continues at levels exceeding their Potential Biological Removal. This proposed action will examine a number of management measures to amend the Pelagic Longline Take Reduction Plan to reduce the incidental mortality and serious injury of short-finned pilot whales taken in the Atlantic Pelagic Longline fishery to below Potential Biological Removal. Potential management measures may include changes to the current limitations on mainline length, new requirements to use weak hooks (hooks with reduced breaking strength), and non-regulatory measures related to determining the best procedures for safe handling and release of marine mammals. The need for the proposed action is to ensure the Pelagic Longline Take Reduction Plan meets its Marine Mammal Protection Act mandated short- and long-term goals.

Timetable:

Action | Date | FR Cite
NPRM | 05/00/18 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BF90

184. Endangered and Threatened Species; Designation of Critical Habitat for Threatened Caribbean and Indo-Pacific Reef-Building Corals

Regulatory Plan: This entry is Seq. No. 11 in part II of this issue of the Federal Register.

RIN: 0648-BG26

185. Regulatory Amendment To Authorize a Recreational Quota Entity

E.O. 13771 Designation: Not subject to, not significant.

Legal Authority: 16 U.S.C. 773 to 773k

Abstract: The proposed action would authorize a recreational quota entity in International Pacific Halibut Commission Regulatory Areas 2C and 3A in the Gulf of Alaska to purchase a limited amount of commercial halibut quota share for use in the charter halibut fishery. The recreational quota entity would provide a mechanism for a compensated reallocation of a portion of commercial halibut quota share from the Pacific Halibut and Sablefish Individual Fishing Quota Program to the charter halibut fishery in order to promote long-term planning and greater stability in the charter halibut fishery. Any halibut quota share from Area 2C or Area 3A purchased by the recreational quota entity would augment the amount of halibut available for harvest in the charter halibut fishery in that area. Underlying allocations to the charter and commercial halibut sectors would not change.

Timetable:

Action | Date | FR Cite
NPRM | 11/00/17 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG57

DEPARTMENT OF COMMERCE (DOC)

National Oceanic and Atmospheric Administration (NOAA)

Final Rule Stage

National Marine Fisheries Service

186. Modification of the Temperature-Dependent Component of the Pacific Sardine Harvest Guideline Control Rule To Incorporate New Scientific Information

E.O. 13771 Designation: Not subject to, not significant.

Legal Authority: 16 U.S.C. 1801 et seq.

Abstract: Pursuant to a recommendation of the Pacific Fishery Management Council (Council) under the Magnuson-Stevens Act, the National Marine Fisheries Service is proposing to use a new temperature index to calculate the temperature parameter of the Pacific sardine harvest guideline control rule under the Fishery Management Plan. The harvest guideline control rule, in conjunction with the overfishing limit and acceptable biological catch control rules, is used to set annual harvest levels for Pacific sardine. The temperature parameter is calculated annually. The National Marine Fisheries Service determined that a new temperature index is more statistically sound and this action will adopt that index.

Timetable:

Action | Date | FR Cite
NPRM | 08/23/17 | 82 FR 39977
NPRM Comment Period End | 09/22/17 |
Final Action | 11/00/17 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BE77

187. Pacific Coast Groundfish Fishing Capacity Reduction Loan Refinance

E.O. 13771 Designation: Not subject to, not significant.

Legal Authority: 16 U.S.C. 1801 et seq.; 16 U.S.C. 1861 et seq.; 5 U.S.C. 561 et seq.

Abstract: Congress enacted the 2015 National Defense Authorization Act to refinance the existing debt obligation funding the fishing capacity reduction program for the Pacific Coast Groundfish fishery implemented under section 212. Pending appropriation of funds to effect the refinance, the National Marine Fisheries Service issued proposed regulations to seek comment on the refinancing and to prepare for an industry referendum and final rule. However, a subsequent appropriation to fund the refinancing was never enacted. As a result, the National Marine Fisheries Service has no funds with which to proceed, and the refinancing authority cannot be implemented. The National Marine Fisheries Service is therefore withdrawing this proposed rule.

Timetable:

Action | Date | FR Cite
NPRM | 08/06/15 | 80 FR 46941
NPRM Comment Period End | 09/08/15 |
Withdrawal | 11/00/17 |

Regulatory Flexibility Analysis Required: Yes.

Agency Contact: Brian Pawlak, Department of Commerce, National Oceanic and Atmospheric Administration, 1315 East-West Highway, Silver Spring, MD 20910, Phone: 301 427-8621, Email: brian.t.pawlak@noaa.gov.

RIN: 0648-BE90

188. Pacific Coast Groundfish Trawl Rationalization Program; Widow Rockfish Reallocation in the Individual Fishing Quota Fishery

E.O. 13771 Designation: Not subject to, not significant.

Legal Authority: 16 U.S.C. 1801 et seq.

Abstract: In January 2011, the National Marine Fisheries Service implemented the groundfish trawl rationalization program (a catch share program) for the Pacific coast groundfish limited entry trawl fishery. The program was implemented through Amendments 20 and 21 to the Pacific Coast Groundfish Fishery Management Plan and the corresponding implementing regulations. Amendment 20 established the trawl rationalization program, which includes an Individual Fishing Quota program for limited entry trawl participants, and Amendment 21 established fixed allocations for limited entry trawl participants. During implementation of the trawl individual fishing quota program, widow rockfish was overfished and the initial allocations were based on its overfished status and management as a non-target species. The National Marine Fisheries Service declared the widow rockfish rebuilt in 2011 and, accordingly, the Pacific Fishery Management Council has now recommended actions to manage the increased abundance of widow rockfish. The action would reallocate individual fishing quota widow rockfish quota share to facilitate directed harvest and would lift the moratorium on widow rockfish quota share trading.

Timetable:

Action | Date | FR Cite
NPRM | 06/29/16 | 81 FR 42295
NPRM Comment Period End | 07/29/16 |
Final Action | 12/00/17 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BF12

189. Regulatory Amendment to the Pacific Coast Groundfish Fishery Management Plan To Implement an Electronic Monitoring Program for the Pacific Whiting Fishery

E.O. 13771 Designation: Not subject to, not significant.

Legal Authority: 16 U.S.C. 1801 et seq.

Abstract: This action would implement a regulatory amendment to the Pacific Coast Groundfish Fishery Management Plan to allow Pacific whiting vessels the option to use electronic monitoring (video cameras and associated sensors) in place of observers to meet requirements for 100-percent observer coverage. Vessels participating in the catch share program are required to carry an observer on all trips to ensure total accountability for at-sea discards. For some vessels, electronic monitoring may have lower costs than observers and a reduced logistical burden. By allowing vessels the option to use electronic monitoring to meet monitoring requirements, this action is intended to increase operational flexibility and reduce monitoring costs for the Pacific whiting fleet.

Timetable:

Action | Date | FR Cite
NPRM | 09/06/16 | 81 FR 61161
NPRM Comment Period End | 10/06/16 |
Final Action | 12/00/17 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BF52

190. Blueline Tilefish Amendment to the Golden Tilefish Fishery Management Plan

E.O. 13771 Designation: Not subject to, not significant.

Legal Authority: 16 U.S.C. 1801 et seq.

Abstract: The Mid-Atlantic Fishery Management Council has developed an amendment to its Golden Tilefish Fishery Management Plan, which would implement management measures for the blueline tilefish fishery north of the Virginia/North Carolina border. This proposed action would establish the management framework for this fishery, including: Permitting, recordkeeping, and reporting requirements; trip limits for both the commercial and recreational sectors of the fishery; and the process for setting specifications and annual catch limits.

Timetable:

Action | Date | FR Cite
Notice of Availability | 06/14/17 | 82 FR 27223
NPRM | 06/28/17 | 82 FR 29263
NPRM Comment Period End | 07/28/17 |
Final Action | 11/00/17 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF86

191. Magnuson-Stevens Act Provisions; Fisheries Off West Coast States; Pacific Coast Groundfish Fishery; Specifications and Management Measures and Fishery Management Plan Amendment 27

E.O. 13771 Designation: Not subject to, not significant.

Legal Authority: 16 U.S.C. 1801 et seq.

Abstract: This final rule established the 2017-2018 harvest specifications and management measures for groundfish taken in the U.S. exclusive economic zone off the coasts of Washington, Oregon, and California, consistent with the Magnuson-Stevens Fishery Conservation and Management Act and the Pacific Coast Groundfish Fishery Management Plan (Fishery Management Plan), including harvest specifications consistent with default harvest control rules in the Fishery Management Plan. This action also included regulations to implement Amendment 27 to the Fishery Management Plan, which adds deacon rockfish to the Fishery Management Plan, reclassifies big skate as an actively managed stock, adds a new inseason management process for commercial and recreational groundfish fisheries in California, and makes several clarifications to existing regulations.

Timetable:

Action | Date | FR Cite
Notice of Availability | 09/30/16 | 81 FR 67287
NPRM | 10/28/16 | 81 FR 75266
NPRM Comment Period End | 11/28/16
Final Rule | 02/07/17 | 82 FR 9634
Final Rule Effective | 02/07/17
Correcting Amendment | 11/00/17

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BG17

192. • Amendment 46 to the Fishery Management Plan for Reef Fish Resources of the Gulf of Mexico To Establish a Gray Triggerfish Rebuilding Plan

E.O. 13771 Designation: Not subject to, not significant.

Legal Authority: 16 U.S.C. 1801 et seq.

Abstract: Following a 2015 NMFS determination of the lack of adequate progress in rebuilding the Gulf gray triggerfish stock, the Gulf of Mexico Fishery Management Council had two years under the Magnuson Stevens Act to develop actions to rebuild the affected stock. The Council has now proposed to amend the Fishery Management Plan to focus on the stock's rebuilding. This proposed action would implement that amendment. The proposed action would establish a 9-year rebuilding time period; retain the current gray triggerfish annual catch limits and annual catch targets for the recreational and commercial sectors; modify the recreational fixed closed season; reduce the recreational bag limit; increase the recreational size limit; and modify the commercial trip limit.

Timetable:

Action | Date | FR Cite
Notice of Availability | 08/30/17 | 82 FR 41205
NPRM | 09/25/17 | 82 FR 44551
NPRM Comment Period End | 10/25/17
Final Action | 12/00/17

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG87

193. • International Fisheries; Western and Central Pacific Fisheries for Highly Migratory Species; Fishing Limits in Purse Seine Fisheries for 2017

E.O. 13771 Designation: Not subject to, not significant.

Legal Authority: 16 U.S.C. 6901 et seq.

Abstract: As authorized under the Western and Central Pacific Fisheries Convention Implementation Act, this rule would enable NOAA Fisheries to implement a recent decision of the Commission for the Conservation and Management of Highly Migratory Fish Stocks in the Western and Central Pacific Ocean (Commission). The rule would establish a limit for calendar year 2017 on fishing effort by U.S. purse seine vessels in the U.S. exclusive economic zone and on the high seas between the latitudes of 20 degrees N. and 20 degrees S. in the area of application of the Convention on the Conservation and Management of Highly Migratory Fish Stocks in the Western and Central Pacific Ocean. The limit is 1,828 fishing days. The rule also would make corrections to outdated cross-references in existing regulatory text. This action is necessary to satisfy the obligations of the United States under the Convention on the Conservation and Management of Highly Migratory Fish Stocks in the Western and Central Pacific Ocean (Convention), to which it is a Contracting Party.

Timetable:

Action | Date | FR Cite
NPRM | 09/20/17 | 82 FR 43926
NPRM Comment Period End | 10/05/17
Final Action | 11/00/17

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG93

194. Regulation To Reduce Incidental Bycatch and Mortality of Sea Turtles in the Southeastern U.S. Shrimp Fisheries

E.O. 13771 Designation: Regulatory.

Legal Authority: 16 U.S.C. 1531 et seq.

Abstract: The purpose of the proposed action is to aid in the protection and recovery of listed sea turtle populations by reducing incidental bycatch and mortality of small sea turtles in the Southeastern U.S. shrimp fisheries. As a result of new information on sea turtle bycatch in shrimp trawls and turtle excluder device testing, NMFS conducted an evaluation of the Southeastern U.S. shrimp fisheries that resulted in a draft environmental impact statement. This rule proposes to withdraw the alternative tow time restriction, which would require all vessels using skimmer trawls, pusher-head trawls, and wing nets (butterfly trawls), with the exception of vessels participating in the Biscayne Bay wing net fishery in Miami-Dade County, Florida, to use turtle excluder devices designed to exclude small sea turtles.

Timetable:

Action | Date | FR Cite
NPRM | 12/16/16 | 81 FR 91097
NPRM Comment Period End | 02/14/17
Final Action | 11/00/17

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG45

NOS/ONMS

195. Wisconsin-Lake Michigan National Marine Sanctuary Designation

E.O. 13771 Designation: Other.

Legal Authority: 16 U.S.C. 1431 et seq.

Abstract: On December 2, 2014, pursuant to section 304 of the National Marine Sanctuaries Act (NMSA) and the Sanctuary Nomination Process (79 FR 33851), a coalition of community groups submitted a nomination asking NOAA to designate an area of Wisconsin's Lake Michigan waters as a national marine sanctuary. The area being considered for designation as a national marine sanctuary is a region that includes 875 square miles of Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources (shipwrecks) as demonstrated by the listing of 15 shipwrecks on the National Register of Historic Places. The area includes 39 known shipwrecks, 123 reported vessel losses, numerous other historic maritime-related features, and is adjacent to communities that have embraced their centuries-long relationship with Lake Michigan. NOAA completed its review of the nomination in accordance with the Sanctuary Nomination Process and on February 5, 2015, added the area to the inventory of nominations that are eligible for designation. On October 7, 2015, NOAA issued a notice of intent to begin the designation process and asked for public comment on making this area a national marine sanctuary. Designation under the NMSA would allow NOAA to supplement and complement work by the State of Wisconsin and other Federal agencies to protect this collection of nationally significant shipwrecks.

Timetable:

Action | Date | FR Cite
NPRM | 01/09/17 | 82 FR 2269
NPRM Comment Period End | 03/31/17
Final Rule | 03/00/18

Regulatory Flexibility Analysis Required: Yes.

Agency Contact: Vicki Wedell, Department of Commerce, National Oceanic and Atmospheric Administration, 1305 East-West Highway (N/ORM6), Silver Spring, MD 20910, Phone: 301 713-7237, Fax: 301 713-0404, Email: vicki.wedell@noaa.gov.

RIN: 0648-BG01

196. Mallows Bay-Potomac River National Marine Sanctuary Designation

E.O. 13771 Designation: Other.

Legal Authority: 16 U.S.C. 1431 et seq.

Abstract: On September 16, 2014, pursuant to section 304 of the National Marine Sanctuaries Act (NMSA) and the Sanctuary Nomination Process (79 FR 33851), a coalition of community groups submitted a nomination asking NOAA to designate Mallows Bay-Potomac River as a national marine sanctuary. The Mallows Bay area of the tidal Potomac River being considered for designation as a national marine sanctuary is an area 40 miles south of Washington, DC, off the Nanjemoy Peninsula of Charles County, MD. The designation of a national marine sanctuary would focus on conserving the collection of maritime heritage resources (shipwrecks) in the area as well as expand the opportunities for public access, recreation, tourism, research, and education. NOAA completed its review of the nomination in accordance with the Sanctuary Nomination Process and on January 12, 2015, added the area to the inventory of nominations that are eligible for designation. On October 7, 2015, NOAA issued a notice of intent to begin the designation process and asked for public comment on making this area a national marine sanctuary. Designation under the NMSA would allow NOAA to supplement and complement work by the State of Maryland and other federal agencies to protect this collection of nationally significant shipwrecks.

Timetable:

Action | Date | FR Cite
NPRM | 01/09/17 | 82 FR 2254
NPRM Comment Period End | 03/31/17
Final Rule | 03/00/18

Regulatory Flexibility Analysis Required: Yes.

Agency Contact: Vicki Wedell, Department of Commerce, National Oceanic and Atmospheric Administration, 1305 East-West Highway (N/ORM6), Silver Spring, MD 20910, Phone: 301 713-7237, Fax: 301 713-0404, Email: vicki.wedell@noaa.gov.

RIN: 0648-BG02

DEPARTMENT OF COMMERCE (DOC)

Long-Term Actions

National Oceanic and Atmospheric Administration (NOAA)

National Marine Fisheries Service

197. Amendment 39 to the Fishery Management Plan for the Reef Fish Resources of the Gulf of Mexico

E.O. 13771 Designation: Not subject to, not significant.

Legal Authority: 16 U.S.C. 1801 et seq.

Abstract: The purpose of this action is to facilitate management of the recreational red snapper component in the reef fish fishery by reorganizing the Federal fishery management strategy to better account for biological, social, and economic differences among the regions of the Gulf of Mexico. Regional management would enable regions and their associated communities to specify the optimal management parameters that best meet the needs of their local constituents, thereby addressing regional socio-economic concerns.

Timetable:

Action | Date | FR Cite
Notice | 05/13/13 | 78 FR 27956
Next Stage Undetermined | To Be Determined

Regulatory Flexibility Analysis Required: Yes.

Agency Contact: Roy E. Crabtree, Phone: 727 824-5305, Fax: 727 824-5308, Email: roy.crabtree@noaa.gov.

RIN: 0648-BD25

198. Implementation of a Program for Transshipments by Large Scale Fishing Vessels in the Eastern Pacific Ocean

E.O. 13771 Designation: Not subject to, not significant.

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
NPRM | 12/00/18 |

Regulatory Flexibility Analysis Required: Yes.

Agency Contact: Barry Thom, Phone: 503 231-6266, Email: barry.thom@noaa.gov.

RIN: 0648-BD59

199. Reducing Disturbances to Hawaiian Spinner Dolphins From Human Interactions

E.O. 13771 Designation: Not subject to, not significant.

Legal Authority: 16 U.S.C. 1361 et seq.

Abstract: This action would implement regulatory measures under the Marine Mammal Protection Act to protect Hawaiian spinner dolphins that are resting in protected bays from take due to close approach interactions with humans.

Timetable:

Action | Date | FR Cite
ANPRM | 12/12/05 | 70 FR 73426
ANPRM Comment Period End | 01/11/06 |
NPRM | 08/24/16 | 81 FR 57854
NPRM Comment Period End | 10/23/16 |
NPRM Comment Period Reopened | 11/16/16 | 81 FR 80629
NPRM Comment Period Reopened End | 12/01/16
Final Action | To Be Determined

Regulatory Flexibility Analysis Required: Yes.

Agency Contact: Donna Wieting, Phone: 301 427-8400.

RIN: 0648-AU02

200. Designation of Critical Habitat for the Arctic Ringed Seal

E.O. 13771 Designation: Regulatory.

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
To Be Determined | To Be Determined

Regulatory Flexibility Analysis Required: Yes.

Agency Contact: Donna Wieting, Phone: 301 427-8400.

RIN: 0648-BC56

DEPARTMENT OF COMMERCE (DOC)

National Oceanic and Atmospheric Administration (NOAA)

Completed Actions

201. Amendment 18 to the Northeast Multispecies Fishery Management Plan

E.O. 13771 Designation: Not subject to, not significant.

Legal Authority: 16 U.S.C. 1801 et seq.

Abstract: Amendment 18 to the Northeast Multispecies Fishery Management Plan made necessary minor administrative adjustments to several groundfish sectors, as well as minor adjustments to fishing activity designed to protect fishery resources while maximizing flexibility and efficiency. Specifically, it included the following management measures: Created an accumulation limit for either the holdings of Potential Sector Contribution or of Northeast multispecies permits; created a sub-annual catch limit that Handgear A permits could enroll in and other measures pertaining to fishing with Handgear A permits; adjusted what fishery data are considered confidential, specifically the price of annual catch entitlement transferred within a sector or leased between sectors; established an inshore/offshore boundary within the Gulf of Maine with associated measures, including creation of a Gulf of Maine cod sub-annual catch limit; adjusted the Gulf of Maine Gear Restricted Area boundary to align with the inshore/offshore boundary; created declaration time periods for fishing in the inshore or offshore areas; and established a Redfish Exemption Area, in which vessels could fish with a smaller mesh net than the standard mesh size, targeting redfish.

Timetable:

Action | Date | FR Cite
Notice of Availability | 12/06/16 | 81 FR 87862
NPRM | 12/20/16 | 81 FR 92761
NPRM Comment Period End | 02/03/17 |
Final Action | 04/21/17 | 82 FR 18706
Correction | 04/28/17 | 82 FR 19630
Final Action Effective | 05/22/17 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF26

202. Amendment 26 to the Fishery Management Plan for Coastal Migratory Pelagic Resources of the Gulf Of Mexico and South Atlantic

E.O. 13771 Designation: Not subject to, not significant.

Legal Authority: 16 U.S.C. 1801 et seq.

Abstract: As per Amendment 26, this rule modified the management/stock boundary for Gulf and Atlantic migratory groups of king mackerel; updated the biological reference points and revised the acceptable biological catch, optimum yield, annual catch limits, and annual catch targets for Gulf and Atlantic migratory group king mackerel; created an incidental catch allowance of Atlantic migratory group king mackerel caught in the shark gillnet fishery; established split season commercial quotas and a trip limit system for the Atlantic Southern Zone; revised the commercial quotas for Gulf zones; and modified the recreational bag limit for Gulf migratory group king mackerel.

Timetable:

Action | Date | FR Cite
Notice of Availability | 12/14/16 | 81 FR 90314
NPRM | 12/29/16 | 81 FR 95941
NPRM Comment Period End | 01/30/17 |
Final Action | 04/11/17 | 82 FR 17387
Final Action Effective | 05/11/17 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG03

203. Amendment 43 to the Fishery Management Plan for the Reef Fish Resources of the Gulf of Mexico

E.O. 13771 Designation: Not subject to, not significant.

Legal Authority: 16 U.S.C. 1801 et seq.

Abstract: Based on a recent stock assessment and per the Magnuson-Stevens Fishery Conservation and Management Act, action was needed to adjust management measures for the Gulf of Mexico (Gulf) hogfish stock to prevent overfishing and achieve optimum yield. Consistent with the stock assessment, this action redefined the geographic range of the Gulf hogfish stock, set the status determination criteria, and set the annual catch limits. This action also revised the hogfish minimum size limit to reduce the likelihood of a season closure due to the annual catch limit being reached and removed the provision in the regulations that exempts hogfish from the prohibition on the use of powerheads to take Gulf reef fish in the Gulf stressed area.

Timetable:

Action | Date | FR Cite
Notice of Availability | 11/04/16 | 81 FR 76908
NPRM | 11/23/16 | 81 FR 84538
NPRM Comment Period End | 12/23/16 |
Final Action | 07/25/17 | 82 FR 34574
Final Action Effective | 08/24/17 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG18

204. Protected Species Hard Caps for the California/Oregon Large-Mesh Drift Gillnet Fishery

E.O. 13771 Designation: Deregulatory.

Legal Authority: 16 U.S.C. 1801 et seq.

Abstract: The National Marine Fisheries Service withdrew a proposed rule to establish strict limits, termed “hard caps,” for the California/Oregon large-mesh drift gillnet fishery on interactions with certain protected species under Magnuson-Stevens Fishery Conservation and Management Act authority. The National Marine Fisheries Service published the proposed rule in the Federal Register on October 13, 2016. After careful consideration, the National Marine Fisheries Service has decided that the changes discussed in the proposed rule are not warranted at this time.

Timetable:

Action | Date | FR Cite
NPRM | 10/13/16 | 81 FR 70660
NPRM Comment Period Extended | 11/23/16 | 81 FR 84546
NPRM Comment Period End | 11/28/16 |
NPRM Comment Period Extended End | 12/28/16 |
Withdrawn | 06/12/17 | 82 FR 26902

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BG23

205. Amendment 37 to the Fishery Management Plan for the Snapper-Grouper Fishery of the South Atlantic Region

E.O. 13771 Designation: Not subject to, not significant.

Legal Authority: 16 U.S.C. 1801 et seq.

Abstract: Amendment 37 responded to the latest stock assessment for hogfish, which identified two stocks of hogfish for the South Atlantic Region (managed by the South Atlantic Fishery Management Council) and one stock of hogfish for the Gulf of Mexico (managed by the Gulf of Mexico Fishery Management Council). The purpose of Amendment 37 was to use the best scientific information available to modify the management unit for hogfish in the South Atlantic Region and establish two management units (stocks) for hogfish; establish a rebuilding plan for the Florida Keys/East Florida stock; specify fishing levels and modify or establish management measures for the Georgia through North Carolina and Florida Keys/East Florida stocks of hogfish; while minimizing, to the extent practicable, adverse social and economic effects.

Timetable:

Action | Date | FR Cite
Notice of Availability | 10/07/16 | 81 FR 69774
NPRM | 12/16/16 | 81 FR 91104
NPRM Comment Period End | 01/17/17 |
Final Action | 07/25/17 | 82 FR 34584
Correction Final Rule | 08/24/17 | 82 FR 40075
Final Action Effective | 08/24/17 | 82 FR 34584

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG33

206. Unmanaged Forage Fish Omnibus Amendment

E.O. 13771 Designation: Not subject to, not significant.

Legal Authority: 16 U.S.C. 1801 et seq.

Abstract: This amendment was initiated to prohibit the development of new—and expansion of existing—commercial and recreational fisheries in mid-Atlantic Federal waters that would exploit unmanaged forage fish species. This action added unmanaged forage species as Ecosystem Component species to the relevant Mid-Atlantic Council fishery management plans. The Forage Amendment established: the list of forage species managed as Ecosystem Component species in the Mid-Atlantic region; Management measures for all forage Ecosystem Component species, except chub mackerel; Management measures for chub mackerel; a mechanism for establishing new fisheries or expansion of existing fisheries for Ecosystem Component species; and Administrative provisions for managing Ecosystem Component species (list of fisheries and fishing gear; permit requirement; monitoring; management unit; and framework measures).

Timetable:

Action | Date | FR Cite
Notice of Availability | 03/28/17 | 82 FR 15311
NPRM | 04/24/17 | 82 FR 18882
NPRM Comment Period End | 05/30/17 |
Final Action | 08/28/17 | 82 FR 40721
Final Action Effective | 09/27/17 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BG42

207. Pacific Coast Groundfish; Establish an Interim 2017 Pacific Coast Tribal Pacific Whiting Allocation

E.O. 13771 Designation: Not subject to, not significant.

Legal Authority: 16 U.S.C. 1801 et seq.

Abstract: This action established an interim 2017 tribal whiting allocation. NMFS developed this final rule after discussions with the affected tribes and the non-tribal fisheries interests. As in prior years, this allocation was an “interim” allocation that was not intended to set precedent for future years.

Timetable:

Action | Date | FR Cite
NPRM | 03/23/17 | 82 FR 14850
NPRM Comment Period End | 04/24/17 |
Final Action | 05/08/17 | 82 FR 21317
Final Action Effective | 05/08/17 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BG47

208. Fishing Year 2017 Recreational Fishing Measures for Gulf of Maine Cod and Haddock

E.O. 13771 Designation: Not subject to, not significant.

Legal Authority: 16 U.S.C. 1801 et seq.

Abstract: This action set recreational measures (open season, possession limit, minimum size) for the recreational fishery for cod and haddock in the Gulf of Maine for the 2017 fishing year (May 1, 2017, through April 30, 2018). These were proactive accountability measures to prevent the annual catch limits from being exceeded, as authorized by the regulations implementing the Northeast Multispecies Fishery Management Plan. The measures were based on newly-available catch information and previously set quotas for fishing year 2017.

Timetable:

Action | Date | FR Cite
NPRM | 05/25/17 | 82 FR 24086
NPRM Comment Period End | 06/09/17 |
Final Action Effective | 07/27/17 |
Final Action | 07/31/17 | 82 FR 35457

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BG52

209. Framework Adjustment 56 to the Northeast Multispecies Fishery Management Plan

E.O. 13771 Designation: Not subject to, not significant.

Legal Authority: 16 U.S.C. 1801 et seq.

Abstract: This action set 2017 specifications for three U.S./Canada stocks (Eastern Georges Bank cod, Eastern Georges Bank haddock, and Georges Bank yellowtail flounder), as well as 2017-2018 specifications for witch flounder. This action established an allocation for northern windowpane flounder for the scallop fishery, revised catch thresholds for implementing the scallop fishery's accountability measures for both its Georges Bank yellowtail flounder allocation and its new northern windowpane flounder allocation, and increased the Georges Bank haddock catch allocation for the midwater trawl fishery.

Timetable:

Action | Date | FR Cite
NPRM | 06/22/17 | 82 FR 28447
NPRM Comment Period End | 07/07/17 |
Final Rule | 08/01/17 | 82 FR 35660
Final Rule Effective | 08/01/17 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BG53

210. Amendment 114 for Groundfish of the Bering Sea/Aleutian Islands Management Area and Amendment 104 for Groundfish of the Gulf of Alaska; Electronic Monitoring

E.O. 13771 Designation: Not subject to, not significant.

Legal Authority: 16 U.S.C. 1801 et seq.

Abstract: This regulation made substantive improvements to the North Pacific Observer Program by giving certain vessels a choice to use electronic monitoring instead of observers for collecting fishery data. The North Pacific Fishery Management Council amended its fisheries research plan for the fixed gear groundfish and halibut fisheries of the Gulf of Alaska and Bering Sea and Aleutian Islands. The Council's fisheries research plan is implemented by the North Pacific Observer Program at the NMFS Alaska Fisheries Science Center, and its purpose is to collect data necessary for the conservation, management, and scientific understanding of the groundfish and halibut fisheries off Alaska. This action allowed an electronic monitoring system, which consists of a control center to manage the data collection, onboard vessels to monitor the harvest and discard of fish and other incidental catch at sea, as a supplement to existing human observer coverage.

Timetable:

Action | Date | FR Cite
Notice of Availability | 03/10/17 | 82 FR 13302
NPRM | 03/23/17 | 82 FR 14853
NPRM Comment Period End | 05/22/17 |
Final Rule | 08/08/17 | 82 FR 36991
Final Rule Effective | 09/07/17 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BG54

211. Revisions to the Pacific Halibut Catch Sharing Plan, Codified Regulations, and Annual Management Measures for 2017 and Beyond

E.O. 13771 Designation: Not subject to, not significant.

Legal Authority: 16 U.S.C. 1801 et seq.; 16 U.S.C. 2431 et seq.; 16 U.S.C. 951 et seq.; 18 U.S.C. 773 to 773k

Abstract: This action was NMFS' annual rulemaking regarding Pacific halibut fishing on the U.S. West Coast and implemented the Pacific Halibut Catch Sharing Plan (Plan). The Plan, in place since 1995, governs the allocation of the annual Pacific halibut total allowable catch to the domestic fisheries of the U.S. West Coast, including the Washington treaty tribes, directed and incidental commercial fisheries and sport fisheries in each of the three West Coast states. The total allowable catch is set by the International Pacific Halibut Commission and approved by the Secretary of State. Based on public comment, the Pacific Fishery Management Council (Council) recommends any revisions necessary to the Plan to achieve management objectives for any of the West Coast halibut fisheries to NMFS for implementation through annual management measures. This action thus implemented the Council's recommended 2017 revisions, which comprised minor changes to the portion of the Plan covering sport fishery monitoring, seasons, and retention rules.

Timetable:

Action | Date | FR Cite
NPRM | 02/23/17 | 82 FR 11419
NPRM Comment Period End | 03/15/17 |
Final Rule | 04/20/17 | 82 FR 18581
Final Rule Effective | 04/20/17 |
Final Rule Correction | 06/20/17 | 82 FR 28012

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BG61

212. International Fisheries; Pacific Tuna Fisheries; Fishing Restriction on Tropical Tuna in the Eastern Pacific Ocean

E.O. 13771 Designation: Not subject to, not significant.

Legal Authority: 16 U.S.C. 973 et seq.

Abstract: This action implemented domestically a resolution (C-17-01, Conservation of Tuna in the Eastern Pacific Ocean During 2017) adopted at the Inter-American Tropical Tuna Commission by the United States and other member nations. Domestic implementation of the resolution through NMFS rulemaking action is required under the Tuna Conventions Act in order for the United States to fulfill its international obligations as member nation of the Inter-American Tropical Tuna Commission (Commission). In implementing Resolution C-17-01, this action set 2017 total allowable catch limits for yellowfin and bigeye tuna harvested in purse seine sets on floating objects and in sets involving chase and encirclement of dolphins. The action also carried over management measures that were previously in place for 2016, including catch limits or prohibitions for certain large vessels, time-area closures, and retention requirements.

Timetable:

Action | Date | FR Cite
Final Action | 04/11/17 | 82 FR 17382
Final Action Effective | 05/11/17 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BG67

213. 2017 Summer Flounder and Scup Recreational Harvest Measures

E.O. 13771 Designation: Not subject to, not significant

Legal Authority: 16 U.S.C. 1801 et seq.

Abstract: This rule finalized management measures—such as recreational possession limits, minimum fish sizes, and seasonal closures—to achieve recreational harvest limits for the 2017 summer flounder and scup recreational fisheries. Specifically, this action established conservation equivalency in Federal waters for the 2017 recreational summer flounder fishery. Conservation equivalency means that management would defer to state management measures.

Timetable:

Action | Date | FR Cite
NPRM | 04/19/17 | 82 FR 18411
NPRM Comment Period End | 05/04/17 |
Final Action | 07/07/17 | 82 FR 31491
Final Action Effective | 07/07/17 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BG68

214. Designation of Critical Habitat for the Gulf of Maine, New York Bight, Chesapeake Bay, Carolina, and South Atlantic Distinct Population Segments of Atlantic Sturgeon

E.O. 13771 Designation: Fully or Partially Exempt.

Legal Authority: 16 U.S.C. 1531 et seq.

Abstract: The National Marine Fisheries Service listed four distinct population segments of Atlantic sturgeon as endangered—and one distinct population of Atlantic sturgeon as threatened—under the Endangered Species Act on February 6, 2012. This rule designated critical habitat for the Gulf of Maine, New York Bight, Chesapeake Bay, Carolina, and South Atlantic Distinct Population Segments of Atlantic sturgeon.

Timetable:

Action | Date | FR Cite
NPRM | 06/03/16 | 81 FR 35701
NPRM Comment Period End | 09/01/16 |
NPRM Comment Period Reopened | 09/29/16 | 81 FR 66911
NPRM Comment Period Reopened End | 10/14/16 |
Final Action | 08/17/17 | 82 FR 39160
Final Action Effective | 09/18/17 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BF28

DEPARTMENT OF COMMERCE (DOC)

Patent and Trademark Office (PTO)

Final Rule Stage

215. Setting and Adjusting Patent Fees During Fiscal Year 2017

E.O. 13771 Designation: Fully or Partially Exempt.

Legal Authority: Pub. L. 112-29

Abstract: The United States Patent and Trademark Office (Office) takes this action to set and adjust Patent fee amounts to provide the Office with a sufficient amount of aggregate revenue to recover its aggregate cost of operations while helping the Office maintain a sustainable funding model, reduce the current patent application backlog, decrease patent pendency, improve quality, and upgrade the Office's business information technology capability and infrastructure.

Timetable:

Action | Date | FR Cite
NPRM | 10/03/16 | 81 FR 68150
NPRM Comment Period End | 12/02/16 |
Final Rule | 11/00/17 |
Final Rule Effective | 01/00/18 |

Regulatory Flexibility Analysis Required: Yes.

Agency Contact: Brendan Hourigan, Director, Office of Planning and Budget, Department of Commerce, Patent and Trademark Office, P. O. Box 1450, Alexandria, VA 22313-1450, Phone: 571 272-8966, Fax: 571 273-8966, Email: brendan.hourigan@uspto.gov.

RIN: 0651-AD02

[FR Doc. 2017-28208 Filed 1-11-18; 8:45 am]

BILLING CODE 3510-12-P